DEPARTMENT OF STATE

[Public Notice 11987]

Notice of Shipping Coordinating Committee Meeting in Preparation for International Maritime Organization LEG 110 Meeting

The Department of State will conduct a public meeting at 1:00 p.m. on Tuesday, March 21, 2023, both in-person at Coast Guard Headquarters in Washington, DC, and via teleconference. The primary purpose of the meeting is to prepare for the 110th session of the International Maritime Organization's (IMO) Legal Committee (LEG 110) to be held in London, United Kingdom from March 27 to March 31, 2023.

Members of the public may participate up to the capacity of the teleconference phone line, which can handle 500 participants or up to the seating capacity of the room if attending in-person. The meeting location will be the United States Coast Guard Headquarters, Room 6K15-15, and the teleconference line will be provided to those who RSVP. To RSVP, participants should contact the meeting coordinator, Mr. Stephen Hubchen, by email at Stephen.K.Hubchen@uscg.mil.

Mr. Hubchen will provide access information for in-person and virtual attendance. The agenda items to be considered at this meeting mirror those to be considered at LEG 110, and include:

• Adoption of the agenda

• Report of the Secretary-General on credentials

• Facilitation of the entry into force and harmonized interpretation of the 2010 HNS Protocol

• Fair treatment of seafarers:

a. Provision of financial security in case of abandonment of seafarers, and shipowners' responsibilities in respect of contractual claims for personal injury to, or death of, seafarers, in light of the progress of amendments to the ILO Maritime Labour Convention, 2006

b. Fair treatment of seafarers in the event of a maritime accident

c. Fair treatment of seafarers detained on suspicion of committing maritime crimes

d. Guidelines for port State and flag State authorities on how to deal with seafarer abandonment cases

• Advice and guidance in connection with the implementation of IMO instruments

(a) Impact on shipping and seafarers of the situation in the Black Sea and the Sea of Azov

• Measures to prevent unlawful practices associated with the fraudulent registration and fraudulent registries of ships

• Measures to assess the need to amend liability limits

• Claims Manual for the International Convention on Civil Liability for Bunker Oil Pollution Damage, 2001

• Piracy and armed robbery against ships

• Guidance for the proper implementation and application of IMO liability and compensation conventions

• Work of other IMO bodies

• Technical cooperation activities related to maritime legislation

• Review of the status of conventions and other treaty instruments emanating from the Legal Committee

• Work programme

• Election of officers

• Any other business

• Consideration of the report of the Committee on its 110th session

Please note: The IMO may, on short notice, adjust the LEG 110 agenda to accommodate the constraints associated with the meeting format. Any changes to the agenda will be reported to those who RSVP.

Those who plan to participate should contact the meeting coordinator, Mr. Stephen Hubchen, by email at Stephen.K.Hubchen@uscg.mil, by phone at (202) 372-1198, or in writing at United States Coast Guard (CG-LMI-P), ATTN: Mr. Stephen Hubchen, 2703 Martin Luther King Jr. Ave. SE Stop 7509, Washington DC 20593-7509 not later than March 14, 2023. Please note, that due to security considerations, two valid, government issued photo identifications must be presented to gain entrance to the Douglas A. Munro Coast Guard Headquarters Building at St. Elizabeth's. This building is accessible by taxi, public transportation, and privately owned conveyance (upon request).

Additionally, members of the public needing reasonable accommodation should advise the meeting coordinator not later than March 14, 2023. Requests made after that date will be considered but might not be able to fulfill.

Additional information regarding this and other IMO public meetings may be found at: https://www.dco.uscg.mil/IMO.

(Authority: 22 U.S.C. 2656 and 5 U.S.C. 552)

Emily A. Rose,
Coast Guard Liaison Officer, Office of Ocean and Polar Affairs, Department of State.

[FR Doc. 2023-02541 Filed 2-6-23; 8:45 am]

BILLING CODE 4710-09-P